DEPARTMENT OF TRANSPORTATION

National Highway Traffic Safety Administration

Petition To Modify an Exemption of a Previously Approved Antitheft Device; General Motors Corporation

AGENCY: National Highway Traffic Safety Administration (NHTSA) Department of Transportation (DOT).

ACTION: Grant of a petition to modify an exemption from the Parts Marking Requirements of a previously approved antitheft device.

SUMMARY: On May 15, 1995, this agency granted in full General Motors Corporation's (GM) petition for exemption from the parts-marking requirements of the vehicle theft prevention standard for the Buick Regal vehicle line. This notice grants in full GM's petition to modify the exemption of the previously approved antitheft device for that line. NHTSA is granting GM's petition to modify the exemption because it has determined, based on substantial evidence, that the modified antitheft device described in GM's petition to be placed on the vehicle line as standard equipment, is likely to be as effective in reducing and deterring motor vehicle theft as compliance with the parts-marking requirements. This notice also acknowledges GM's notification that the nameplate for the Buick Regal vehicle line will be changed to the Buick LaCrosse vehicle line beginning with model year (MY) 2005.

DATES: The exemption granted by this notice is effective beginning with model year (MY) 2005.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: On May 15, 1995, NHTSA published in the Federal Register a notice granting a petition from GM for an exemption from the parts-marking requirements of the vehicle theft prevention standard for the Buick Regal vehicle line beginning with the 1996 model year (See 60 FR 25938). On March 19, 2004, GM submitted a petition to modify an exemption of its existing MY 1987 antitheft device. GM's submission is a complete petition, as required by 49 CFR Part 543.9(d), in that it meets the general requirements contained in 49 CFR Part 543.5 and the specific content requirements of 49 CFR Part 543.6. GM's petition provides a detailed description of the identity, design and location of the components of the antitheft system proposed for installation beginning with the 2005 model year.

GM's petition also informed the agency of its planned nameplate change for the Buick Regal to the Buick LaCrosse nameplate beginning with the 2005 model year. GM stated that the vehicle will continue to be built on the existing “W” car platform from which the Buick Century/Regal line is currently built.

The current antitheft device (“PASS-Key II”) installed on the Buick Century/Regal line utilizes an ignition key, an ignition lock cylinder and a decoder module and is passively activated. Before the vehicle can be operated, a key whose shank contains the correct electrical resistance of the key must be inserted in the ignition. The resistance value measured in the key pellet is compared to a fixed resistance in the vehicle's decoder module. If the key pellet's resistance matches that in the decoder module, the starter enable relay is energized and a signal is transmitted to the engine control module (ECM). Recognition of that signal by the ECM permits fuel to flow. If a key other than the one with proper resistance for the vehicle is inserted, the decoder module will shut down for three minutes plus or minus eighteen seconds.

In GM's petition to modify the exemption, it stated that for MY 2005, the Buick Regal/LaCrosse vehicle line will be equipped with the PASS-Key III theft deterrent system. The PASS-Key III will continue to provide protection against unauthorized starting and fueling of the vehicle engine. Components of the modified antitheft device include an electronically coded ignition key, body control module and engine control module. The PASS-Key III system uses a special ignition key and decoder module. The conventional mechanical code of the key unlocks and releases the transmission lever. The ignition key contains electronics molded into the key head. These electronics receive energy from the controller module. Upon energization, the key will transmit its unique code via low frequency transmission. The controller module translates the low frequency signal received from the key into a digital signal and transmits the signal to the Body Control Module (BCM). The BCM compares the received signal to an internally stored value. If the values match, the key is recognized as valid, and a Vehicle Security Password, is transmitted via serial data link to the ECM to enable fuel and starting. If an invalid key code is received, the BCM will send a disable password to the ECM and starting, ignition, and fuel will be inhibited. The PASS-Key III system will provide protection against unauthorized starting and fueling of the vehicle engine. The antitheft device is designed to be active at all times without direct intervention by the vehicle operator. No intentionally specific or discrete security system action is necessary to achieve protection. The system is fully functional (armed) immediately after the vehicle has been turned off.

GM stated that its modified antitheft device does not provide any visible or audible indication of unauthorized entry by means of flashing vehicle lights or sounding of the horn. To substantiate its belief that an alarm system is not a necessary feature to effectively deter the theft of a vehicle, GM compared the reduction in theft rates of Chevrolet Corvettes using a passive theft deterrent system (“VATS/PASS-Key”) along with an audible/visible alarm system to the reduction in theft rates for Chevrolet Camaro and Pontiac Firebird vehicles equipped with a passive theft-deterrent system (“PASS-Key”) without an alarm. GM finds that the lack of an alarm or attention attracting device does not compromise the theft deterrent performance of a system such as the modified antitheft device system. Based on the declining theft rate experience of other vehicles equipped with devices that do not have an audio or visual alarm for which NHTSA has already exempted from the parts-marking requirements, the agency has concluded that the absence of a visual or audio alarm has not prevented these antitheft devices from being effective protection against theft.

In order to ensure the reliability and durability of the device, GM conducted tests based on its own specified standards. GM provided a detailed list of tests conducted and believes that its device is reliable and durable since the device complied with its specified requirements for each test. The tests conducted included high and low temperature storage, thermal shock, humidity frost, salt fog, flammability, altitude, drop, shock, random vibration, dust, potential contaminants, connector retention/strain relief, terminal retention, connector insertion, crush, ice, immersion and tumbling.

GM compared the MY 2005 device with devices which NHTSA has already determined to be as effective in reducing and deterring motor vehicle theft as would compliance with the parts-marking requirements. To substantiate its beliefs as to the effectiveness of the new device, GM compared the MY 2005 modified device to its “PASS-Key”-like systems. GM indicated that the theft rates, as reported by the Federal Bureau of Investigation's National Crime Information Center, are lower for GM models equipped with the “PASS-Key”-like systems which have exemptions from the parts-marking requirements of 49 CFR Part 541, than the theft rates for earlier models with similar appearance and construction which were parts-marked. Based on the performance of the PASS-Key, PASS-Key II, and PASS-Key III systems on other GM models, and the advanced technology utilized by the modification, GM believes that the MY 2005 modified antitheft device will be more effective in deterring theft than the parts-marking requirements of 49 CFR Part 541.

On the basis of this comparison, GM believes that the antitheft system (PASS-Key III) for model years 2005 and later will provide essentially the same functions and features as found on its MY 1987-2004 system and therefore, its modified system will provide at least the same level of theft prevention as parts-marking. GM believes that the antitheft system proposed for installation on its MY 2005 Buick Regal/LaCrosse vehicle line is likely to be as effective in reducing thefts as compliance with the parts-marking requirements of Part 541.

The agency has evaluated GM's MY 2005 petition to modify the exemption for the Buick Regal/LaCrosse vehicle line from the parts-marking requirements of 49 CFR Part 541, and has decided to grant it. It has determined that the PASS-Key III system is likely to be as effective as parts-marking in preventing and deterring theft of these vehicles, and therefore qualifies for an exemption under 49 CFR Part 543. The agency believes that the modified device will continue to provide four of the five types of performance listed in Section 543.6(b)(3): promoting activation; preventing defeat or circumventing of the device by unauthorized persons; preventing operation of the vehicle by unauthorized entrants; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: July 21, 2004.
Stephen R. Kratzke,
Associate Administrator for Rulemaking.

[FR Doc. 04-17023 Filed 7-26-04; 8:45 am]

BILLING CODE 4910-59-P